DEPARTMENT OF LABOR

Occupational Safety and Health Administration

[Docket No. NRTL95-F-1]

Nationally Recognized Testing Laboratories, Proposed Revised Fee Schedule

Correction

In notice document 01-30727 beginning on page 64274 in the issue of Wednesday, December 12, 2001, make the following correction:

On page 64274, in the third column, in the DATES section, in the fourth line, “December 27, 2002” should read, “December 27, 2001”.

[FR Doc. C1-30727 Filed 12-14-01; 8:45 am]

BILLING CODE 1505-01-D